Title 3—

The President

Executive Order 13486 of January 9, 2009

Strengthening Laboratory Biosecurity in the United States

By the authority vested in me as President by the Constitution and the laws of the United States of America, it is hereby ordered as follows:

Section 1. Policy. It is the policy of the United States that facilities that possess biological select agents and toxins have appropriate security and personnel assurance practices to protect against theft, misuse, or diversion to unlawful activity of such agents and toxins.

Sec. 2. Establishment and Operation of the Working Group. (a) There is hereby established, within the Department of Defense for administrative purposes only, the Working Group on Strengthening the Biosecurity of the United States (Working Group).

(b) The Working Group shall consist exclusively of the following members:

(i) the Secretary of State;

(ii) the Secretary of Defense, who shall be a Co-Chair of the Working Group;

(iii) the Attorney General;

(iv) the Secretary of Agriculture;

(v) the Secretary of Commerce;

(vi) the Secretary of Health and Human Services, who shall be a Co-Chair of the Working Group;

(vii) the Secretary of Transportation;

(viii) the Secretary of Energy;

(ix) the Secretary of Homeland Security;

(x) the Administrator of the Environmental Protection Agency;

(xi) the Director of National Intelligence;

(xii) the Director of the National Science Foundation; and

(xiii) the head of any other department or agency when designated:

(A) by the Co-Chairs of the Working Group with the concurrence of such head; or

(B) by the President.

(c) The Co-Chairs shall convene and preside at meetings of the Working Group, determine its agenda, and direct its work. The Co-Chairs may establish and direct subgroups of the Working Group, as appropriate to deal with particular subject matters, that shall consist exclusively of members of the Working Group.

(d) A member of the Working Group may designate, to perform the Working Group or Working Group subgroup functions of the member, any person who is a part of the member's agency and who is an officer of the United States appointed by the President, a member of the Senior Executive Service (SES), or the equivalent of a member of the SES.

Sec. 3. Functions of the Working Group. Consistent with this order, and to assist in implementing the policy set forth in section 1 of this order, the Working Group shall:

(a) review and evaluate the efficiency and effectiveness, with respect to Federal and nonfederal facilities that conduct research on, manage clinical or environmental laboratory operations involving, or handle, store, or transport biological select agents and toxins, of the following:

(i) existing laws, regulations, and guidance with respect to physical, facility, and personnel security and assurance; and

(ii) practices with respect to physical, facility, and personnel security and assurance;

(b) obtain information or advice, as appropriate for the conduct of the review and evaluation, from the following:

(i) heads of executive departments and agencies;

(ii) elements of foreign governments and international organizations with responsibility for biological matters, consistent with functions assigned by law or by the President to the Secretary of State; and

(iii) representatives of State, local, territorial, and tribal governments, and other entities or other individuals in a manner that seeks their individual advice and does not involve collective judgment or consensus advice or deliberation; and

(c) submit a report to the President, through the Co-Chairs, not later than 180 days after the date of this order that is unclassified, with a classified annex as required, and sets forth the following:

(i) a summary of existing laws, regulations, guidance, and practices with respect to security and personnel assurance reviewed under subsection (a) of this section and their efficiency and effectiveness;

(ii) recommendations for any new legislation, regulations, guidance, or practices for security and personnel assurance for all Federal and nonfederal facilities described in subsection (a);

(iii) options for establishing oversight mechanisms to ensure a baseline standard is consistently applied for all physical, facility, and personnel security and assurance laws, regulations, and guidance at all Federal and nonfederal facilities described in subsection (a); and

(iv) a comparison of the range of existing personnel security and assurance programs for access to biological select agents and toxins to personnel security and assurance programs in other fields and industries.

Sec. 4. Duties of Heads of Departments and Agencies. (a) The heads of departments and agencies shall provide for the labor and travel costs of their representatives and, to the extent permitted by law, provide the Working Group such information and assistance as it needs to implement this order.

(b) To the extent permitted by law and subject to the availability of appropriations, the Secretary of Defense shall provide the Working Group with such administrative and support services as may be necessary for the performance of its functions.

Sec. 5. Termination of the Working Group. The Working Group shall terminate 60 days after the date of the report submitted under subsection 3(c) of this order.

Sec. 6. General Provisions. (a) Nothing in this order shall be construed to impair or otherwise affect:

(i) authority granted by law to a department or agency, or the head thereof; or

(ii) functions of the Director of the Office of Management and Budget relating to budget, administrative, or legislative proposals.

(b) This order shall be implemented consistent with applicable law and subject to the availability of appropriations.

(c) This order is intended only to improve the internal management of the executive branch and is not intended to, and does not, create any right or benefit, substantive or procedural, enforceable at law or in equity by any party against the United States, its agencies, instrumentalities, or entities, its officers, employees, or agents, or any other person.

THE WHITE HOUSE,

January 9, 2009.

[FR Doc. E9-818

Filed 1-13-09; 8:45 am]

Billing code 3195-W9-P